DEPARTMENT OF DEFENSE

Department of the Navy

Meeting of the U.S. Naval Academy Board of Visitors; Correction

AGENCY: Department of Navy, DoD.

ACTION: Notice; correction.

SUMMARY: The Department of the Navy published a document in the Federal Register (77 FR 103) on May 29, 2012, concerning the partially closed meeting of the U.S. Naval Academy Board of Visitors. The document failed to publish before the 15-day statutory requirement.

Due to changing requirements beyond the control of the U.S. Naval Academy Board of Visitors or its Designated Federal Officer, the Board was unable to process the Federal Register notice for its June 11, 2012 meeting as required by 41 CFR 102-3.150(a). Accordingly, the Advisory Committee Management Officer for the Department of Defense, pursuant to 41 CFR 102-3.150(b), waives the 15-calendar day notification requirement.

FOR FURTHER INFORMATION CONTACT: Lieutenant Commander Travis Haire, USN, Executive Secretary to the Board of Visitors, Office of the Superintendent, U.S. Naval Academy, Annapolis, MD 21402-5000, 410-293-1503.

Dated: May 29, 2012.
J.M. Beal,
Lieutenant Commander, Office of the Judge Advocate, U.S. Navy, Federal Register Liaison Officer.

[FR Doc. 2012-13544 Filed 6-4-12; 8:45 am]

BILLING CODE 3810-FF-P